COMMITTEE FOR PURCHASE FROM PEOPLE WHO ARE BLIND OR SEVERELY DISABLED

Procurement List Addition and Deletions

AGENCY: Committee for Purchase From People Who Are Blind or Severely Disabled.

ACTION: Addition to and deletions from the Procurement List.

SUMMARY: This action adds a service to the Procurement List that will be provided by a nonprofit agency employing persons who are blind or have other severe disabilities, and deletes products from the Procurement List previously furnished by such agencies.

DATES: Effective Date: 6/23/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Addition

On 2/28/2014 (79 FR 11422-11423), the Committee for Purchase From People Who Are Blind or Severely Disabled published notice of proposed addition to the Procurement List.

After consideration of the material presented to it concerning capability of qualified nonprofit agency to provide the service and impact of the addition on the current or most recent contractor, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type/Location: Furniture Design and Configuration Service, Maine National Guard, 194 Winthrop Street, Augusta, ME

NPA: Industries for the Blind, Inc., West Allis, WI

Contracting Activity: DEPT OF THE ARMY, W7NC USPFO ACTIVITY ME ARNG, AUGUSTA, ME

Deletions

On 3/28/2014 (79 FR 17509-17510) and 4/4/2014 (79 FR 18891-18892), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Binder, Loose-leaf, Presentation, Letter

NSN: 7510-00-582-5398—Blue, 3/8″

NSN: 7510-00-582-5399—Gray, 3/8″

NSN: 7510-00-582-5400—Tan, 3/8″

NPA: Vision Corps, Lancaster, PA

Contracting Activity: GENERAL SERVICES ADMINISTRATION, NEW YORK, NY

Portfolio, Clear Front Report Cover

NSN: 7510-01-411-7000—Dark Blue, 8 1/2″ x 11″

NSN: 7510-01-566-4140—Light Blue, 8 1/2″ x 11″

NSN: 7510-01-566-4141—Black, 8 1/2″ x 11″

NSN: 7510-01-566-4142—Red, 8 1/2″ x 11″

NSN: 7510-01-566-5060—Dark Green, 8 1/2″ x 11″

NPA: Vision Corps, Lancaster, PA

Contracting Activity: GENERAL SERVICES ADMINISTRATION, NEW YORK, NY

Barry S. Lineback,
Director, Business Operations.

[FR Doc. 2014-11974 Filed 5-22-14; 8:45 am]

BILLING CODE 6353-01-P